DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date: November 15, 2001-9 a.m.-6 p.m.; November 16, 2001-10:10 a.m.-1 p.m.

Place: Hubert H. Humphrey Building, Room 705A, 200 Independence Avenue SW., Washington, DC 20201.

Status: Open.

Purpose: At this meeting the Committee will hear presentations and hold discussions on several health data policy topics. On the first day the full Committee will be briefed by HHS staff on a number of topics including an update on activities of the HHS Data Council; Departmental responses to recent reports and recommendations from the Committee; and the status of implementation of the administrative simplification provisions of the Health Insurance Portability and Accountability Act of 1996 including the status of privacy and data standards regulations. The Committee will be briefed by the HHS Chief Information Officer on HHS Information Technology activities. The Committee will then review the status of its draft report on the National Health Information Infrastructure (NHII). In the afternoon of the first day the Committee will review its privacy recommendations and be briefed on a Department of Defense E-Health Initiative. The Subcommittees on Privacy and Confidentiality and on Populations will hold working sessions late in the afternoon as will the NHII Workgroup.

The Subcommittee on Standards and Security and the Workgroup on Quality will hold working sessions from 8 to 10 in the morning of the second day before the full Committee convenes. Day two of the full Committee meeting will feature an update on statistical activities of the National Center for Health Statistics from the Center's director. The Subcommittees and Working Groups will then report out from their working sessions and the remainder of the agenda will be devoted to planning future agendas.

Notice: In the interest of security, HHS has instituted stringent procedures for entrance to the Hubert H. Humphrey building by non-government employees. Persons without a government identification card may need to have the guard call for an escort to the meeting.

Contact Person for More Information: Substantive program information as well as summaries of meetings and a roster of committee members may be obtained from Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS Web site: http://www.ncvhs.hhs.gov/, where further information including an agenda will be posted when available.

Dated: October 23, 2001.
James Scanlon,
Director, Division of Data Policy, Office of the Assistant Secretary for Planning and Evaluation.

[FR Doc. 01-27035 Filed 10-25-01; 8:45 am]

BILLING CODE 4151-05-M